DEPARTMENT OF COMMERCE

Foreign-Trade Zones Board

(Docket 44-2006)

Foreign-Trade Zone 202 -- Los Angeles, California, Area Application for Expansion

An application has been submitted to the Foreign-Trade Zones (FTZ) Board (the Board) by the Board of Harbor Commissioners of the City of Los Angeles, grantee of FTZ 202, requesting authority to expand its zone to include a site in Lebec, California, adjacent to the Los Angeles-Long Beach Customs port of entry. The application was submitted pursuant to the provisions of the Foreign-Trade Zones Act, as amended (19 U.S.C. 81a-81u), and the regulations of the Board (15 CFR part 400). It was formally filed on November 8, 2006.

FTZ 202 was approved on July 14, 1994 (Board Order 693, 59 FR 37464, 7/22/94), expanded on August 26, 1996 (Board Order 842, 61 FR 46763, 9/5/96) and on July 9, 1999 (Board Order 1043, 64 FR 38887, 7/20/99), and expanded/reorganized on April 30, 2004 (Board Order 1331, 69 FR 26065, 5/11/04). The zone project currently consists of 22 sites (5,704 acres) and a temporary site (10 acres) located at port facilities, industrial parks and warehouse facilities in Los Angeles, San Bernardino, Kern and Riverside Counties.

The applicant is now requesting authority to expand the zone to include a site (177 acres, Proposed Site 23) within the 1,450-acre Tejon Industrial Complex located directly off Interstate 5 at the Highway 99 junction just north of the Los Angeles County border in Lebec (Kern County). The site is owned by Tejon Industrial Corporation and Tejon Dermody Industrial LLC and is partially developed with the remaining parcels available for build-to-suit. The site will provide public warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is January 16, 2007. Rebuttal comments in response to material submitted during the foregoing period may be submitted during the subsequent 15-day period to January 29, 2007.

A copy of the application and accompanying exhibits will be available for public inspection at each of the following locations: U.S. Department of Commerce, Export Assistance Center, 11150 West Olympic Boulevard, Suite 975, Los Angeles, CA 90064; and, Office of the Executive Secretary, Foreign-Trade Zones Board, Room 2814B, U.S. Department of Commerce, 1401 Constitution Avenue, NW, Washington, DC 20230.

Dated: November 8, 2006.
Pierre V. Duy,
Acting Executive Secretary.

[FR Doc. E6-19303 Filed 11-14-06; 8:45 am]

Billing Code: 3510-DS-S